DEPARTMENT OF LABOR

Occupational Safety and Health Administration

[Docket No. ICR 1218-0007 2000]

Proposed Information Collection Request Submitted for Public Comment and Recommendations; Reporting of Fatality or Multiple Hospitalization Incidents (1218-0007)

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA 95) [44 U.S.C. 3506(c)(2)(A)]. This program helps to ensure that requested data can be provided in the desired format, reporting burden (time and financial resources) is minimized, collection instruments are clearly understood, and impact of collection requirements on respondents can be properly assessed. Currently, the Occupational Safety and Health Administration (OSHA) is soliciting comments concerning the proposed extension of approval for the paperwork requirements of 29 CFR 1904.8, Reporting of Fatality or Multiple Hospitalization Incidents. A copy of the proposed information collection request (ICR) can be obtained by contacting the office listed below in the address section of this notice.

DATES: Written comments must be submitted to the office listed below in the address section on or before April 24, 2000.

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

ADDRESSES: Comments are to be submitted to the Docket Office, Docket No. ICR 1218-0007 2000, U.S. Department of Labor, Room N-2625, 200 Constitution Avenue, NW, Washington, D.C. 20210, telephone: (202) 693-2350. Written comments limited to 10 pages or less in length may also be transmitted by facsimile to (202) 693-1648.

FOR FURTHER INFORMATION CONTACT: Dave Schmidt, Directorate of Information Technology, Office of Statistics, Occupational Safety and Health Administration, U.S. Department of Labor, Room N3644, 200 Constitution Avenue, NW, Washington, DC 20210, telephone: (202) 693-1886. Copies of the referenced information collection request are available for inspection and copying in the Docket Office and will be mailed to persons who request copies by telephoning Dave Schmidt at (202) 693-1886 or Todd Owen at (202) 693-2444. Contact OSHA's WebPage on the Internet at http://www.osha-slc.gov/OCIS/Info_coll.html for electronic copies of the Reporting of Fatality or Multiple Hospitalization Incidents information collection request.

SUPPLEMENTARY INFORMATION:

I. Background

OSHA promulgated regulation 29 CFR 1904.8 which currently requires employers to report any death of an employee from a work related incident or the in-patient hospitalization of three or more employees as a result of a work related incident to OSHA within 8 hours. OSHA investigates such incidents in order to provide the Agency with information on the causes of employment fatalities and serious injuries, to identify and require correction of serious hazards, and to prevent the occurrence of such incidents in the future. Such information can also be a source of support for new and revised safety and health standards. Investigators will determine whether there was a violation of OSHA standards, and, if so, whether the violation may have contributed to the incident. Therefore, such investigations must be prompt and thorough if they are to provide valid, useful information and achieve their intended purposes.

OSHA currently has approval from the Office of Management and Budget (OMB) for information collection requirements contained in 29 CFR 1904.8. That approval will expire on July 31, 2000. This notice initiates the process of OSHA to request an extension of the current OMB approval. This notice also solicits public comment on OSHA's paperwork burden estimates from interested parties and seeks public response to several questions related to the development of OSHA's estimation. Interested parties are requested to review OSHA's estimates, which are based upon the most current data available, and to comment on their accuracy or appropriateness in today's workplace.

II. Current Actions

This notice requests an extension of the current OMB approval of the paperwork requirements in 29 CFR 1904.8, Reporting of Fatality or Multiple Hospitalization Incidents.

Type of Review: Extension of currently approved collection.

Agency: Occupational Safety and Health Administration.

Title: Reporting of Fatality or Multiple Hospitalization Incidents.

OMB Number: 1218-0007.

Agency Number: Docket No. ICR 1218-0007 2000.

Affected Public: Business or other for-profit; Farms; Non-profit institutions; Small businesses or organizations.

Cite/Refrence/Form/etc.: 29 CFR 1904.8.

Total respondents: 3,064.

Frequency: On occasion.

Average Time Per Respondent: 15 minutes.

Estimated Total Burden Hours: 766.

Comments submitted in response to this notice will be summarized and included in the request for Office of Management and Budget approval of the information collection request. They will also become a matter of public record.

Dated: February 15, 2000.
Charles N. Jeffress,
Assistant Secretary of Labor.

[FR Doc. 00-4134 Filed 2-18-00; 8:45 am]

BILLING CODE 4510-20-M